DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of July 27 through August 7, 2009.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B)—all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-70,413; Berkline/BenchCraft, LLC, Plant 5, Livingston, TN, May 17, 2009.

TA-W-70,414; Berkline/BenchCraft, LLC, Plants 1, 2, 3, and 6, Morristown, TN, May 19, 2008.

TA-W-70,589; Rex-Cut Products, Inc., Fall River, MA, May 22, 2008.

TA-W-71,141; Ruud Lighting, Inc., Racine, WI, May 28, 2008.

TA-W-71,153; DeRoyal Textiles, Inc., A Subsidiary of DeRoyal Industries, Leased Workers From Gallman Personnel, Camden, SC, June 13, 2009.

TA-W-71,403; Ethan Allen Operations, Inc., A Subsidiary of Ethan Allen Global, Beecher Falls, VT, June 25, 2008.

TA-W-71,404; Ethan Allen Operations, Inc., A Subsidiary of Ethan Allen Global, Orleans, VT, June 25, 2008.

TA-W-71,410; Noble Metal Processing, Indiana, Inc., Leased Workers from Pro Resources, Butler, IN, June 22, 2008.

TA-W-70,082; Fort Wayne Foundry Corporation, Fort Wayne, IN, May 18, 2008.

TA-W-70,595; Checker Motors Corporation, Kalamazoo, MI, May 21, 2008.

TA-W-70,703; Hemingway Apparel Manufacturing, Inc., Hemingway, SC, May 20, 2008.

TA-W-71,406; Weyerhaeuser NR Company, Aberdeen Forest Area Div., Cosmopolis, WA, June 12, 2008.

TA-W-71,407; Weyerhaeuser NR Company, Pe Ell Forest Area Division, Pe Ell, WA, June 12, 2008.

TA-W-70,926; BLC Consulting Service, LLC, BLCPro Division, New London, CT, May 26, 2008.

TA-W-70,567; Protexall, Inc, Galesburg, IL, May 22, 2008.

TA-W-70,798; Southwest Apparel Corp., Hohenwald, TN, May 27, 2008.

TA-W-71,736; Texas and Northern Railway, A Subsidiary of Transtar, Inc., Lone Star, TX, July 16, 2008.

The following certifications have been issued. The requirements of Section 222(a)(2)(B) (shift in production or services) of the Trade Act have been met.

TA-W-70,066; Emerson Network Power, Embedded Computing, Leased Workers from Manpower, Tempe, AZ, May 18, 2008.

TA-W-70,085; Emerson Network Power, Embedded Computing, Leased Workers of QTI, Madison, WI, May 18, 2008.

TA-W-70,575; Visteon Corporation, Visteon Headquarters, Van Buren Township, MI, May 18, 2008.

TA-W-70,069; Emerson Network Power, Embedded Computing, Marlborough, MA, May 18, 2008.

TA-W-70,093A; Kelly Services, A Subsidiary of Cookson Group, PLC, Fisher, IL, May 18, 2008.

TA-W-70,093; Vesuvius USA, A Subsidiary of Cookson Group, PLC, Fisher, IL, May 18, 2008.

TA-W-70,120; Cyberoptics Corporation, On-Site Leased Workers From Hansohn Consulting, Golden Valley, MN, May 18, 2008.

TA-W-70,129; Bose Corporation, Manufacturing Division, Blythewood, SC, May 18, 2008.

TA-W-70,152A; La-Z-Boy Manufacturing, La-Z-Boy Tennessee Division, Dayton, TN, May 18, 2008.

TA-W-70,152B; La-Z-Boy Manufacturing, La-Z-Boy Midwest Division, Neosha, MO, May 18, 2008.

TA-W-70,152C; La-Z-Boy Manufacturing, La-Z-Boy West Division, Redlands, CA, May 18, 2008.

TA-W-70,152; La-Z-Boy Manufacturing, La-Z-Boy South Division, Newton, MS, May 18, 2008.

TA-W-70,159; Regal Beloit, Marathon Electric/Generators Division, Brownsville, TX, May 18, 2008.

TA-W-70,196; Cordis Corporation, Kelly Temp Services, Miami Lakes, FL, May 18, 2008.

TA-W-70,270; Mipox International Corporation, Hayward, CA, May 18, 2008.

TA-W-70,283; Sandvik Mining and Construction, Mansfield, TX, May 19, 2008.

TA-W-70,310; Ortho Pharmaceutical, LCC, Janssen Ortho, LLC Division, Semi Solids Business Unit, Manati, PR, May 18, 2008.

TA-W-70,362; Tokyo Electron Massachusetts, Leased Workers of Summit Technical, Beverly, MA, May 19, 2008.

TA-W-70,590; Flabeg Automotive US Corporation, A Subsidiary of Flabeg Holding GMBH, Brackenridge, PA, May 22, 2008.

TA-W-70,666; Universal Brixius, Inc., Eagle Tech, American Tech, Crown Staffing, Milwaukee, WI, May 26, 2008.

TA-W-70,684; STMicroelectronics, Inc., Carrollton, TX, August 2, 2009.

TA-W-70,724; Komatsu Reman, A Division of Komatsu America Corp., Lexington, KY, May 18, 2008.

TA-W-70,813; Sparton Electronics, Jackson, MI, May 19, 2008.

TA-W-71,117; Sapa HE Tubing, Inc., Louisville, KY, June 9, 2008.

TA-W-71,140; TBA-Leitchfield Plant, A Division of Toyota Boshoku America, Leitchfield, KY, June 10, 2008.

TA-W-71,188; Delta Faucet Company, A Subsidiary of Masco Corporation, Greensburg, IN, March 14, 2009.

TA-W-71,189; Morgan Advanced Materials and Technology, Inc., St. Marys, PA, June 11, 2008.

TA-W-71,219; Bush Industries, Inc., Mason Drive & Allen St, Ohio Security, Morris, Express, Jamestown, NY, June 10, 2008.

TA-W-71,268; Komo Machine, Inc., Sauk Rapids, MN, June 16, 2008.

TA-W-71,305; Rockwell Automation, Leased Workers From Manpower, Aerotek, Victory Personnel, Sumner, IA, June 17, 2008.

TA-W-71,381; James Tower, Inc., North Mankato, MN, June 23, 2008.

TA-W-71,418; Thermagon Inc. dba Laird Technologies, Cleveland, OH, June 22, 2008.

TA-W-71,523; Gates Corporation, Fluid Power Division, Rockford, IL, July 1, 2008.

TA-W-71,537; SBNA Services, Leased Wkrs From Manpower Services, Kenton, OH, July 2, 2008.

TA-W-71,756; Bettcher Manufacturing LLC, Cleveland, OH, July 20, 2008.

TA-W-70,278; Footjoy, A Business Unit of Acushnet Company, Brockton, MA, May 19, 2008.

TA-W-70,374; Vanity Fair Brands, LP, Jackson Knitting Facility, Jackson, AL, May 19, 2008.

TA-W-71,068; JDS Uniphase, Commtest Division, Germantown, MD, June 8, 2008.

TA-W-71,131; Reliant Manufacturing Service LLC, Longmont, CO, June 8, 2008.

TA-W-71,157; JDS Uniphase, Commtest Division, Indianapolis, IN, June 9, 2008.

TA-W-71,528; United States Gypsum, A Subsidiary of USG Corporation, La Mirada, CA, June 29, 2008.

TA-W-71,663; Johnson Controls, North American Refrigeration, Dixon, IL, July 14, 2008.

TA-W-70,127; Coca Cola Enterprises, Inc., Global Finance, Shared Services Division, Brandon, FL, May 18, 2008.

TA-W-70,138; Freescale Semiconductor, Technical Information Center, Austin, TX, May 18, 2008.

TA-W-70,210; First Data Corporation, Global Customer Service Operations, Coral Springs, FL, May 18, 2008.

TA-W-70,340; Computer Sciences Corporation, Managed Services Sector, Zurich Financial Group—Farmers Account, Caledonia, MI, May 18, 2008.

TA-W-70,428; Flextronics, Leased Workers From Appleone, Aerotek and Tech Systems, Broomfield, CO, May 20, 2008.

TA-W-70,445; Littelfuse, Inc., Leased Workers From Innovative Staff Solutions, Arcola, IL, May 18, 2008.

The following certifications have been issued. The requirements of Section 222(b) (adversely affected workers in public agencies) of the Trade Act have been met.

None.

The following certifications have been issued. The requirements of Section 222(c) (supplier to a firm whose workers are certified eligible to apply for TAA) of the Trade Act have been met.

TA-W-70,347; Mountain Skyliners, Inc., Leavenworth, WA, May 12, 2008.

TA-W-70,407; L and L Products, Inc., Romeo, MI, May 19, 2008.

TA-W-70,475A; Foamade Industries, Inc., Hillsdale, MI, May 18, 2008.

TA-W-70,475B; Foamade Industries, Inc., Verona, MS, May 18, 2008.

TA-W-70,475; Foamade Industries, Inc., Auburn Hills, MI, May 18, 2008.

TA-W-70,698; Progressive Stamping Company, Leased Workers From U.S. Quality, Royal Oak, MI, May 27, 2008.

TA-W-70,884; Glacier Line Logging, Inc., Kalispell, MT, May 29, 2008.

TA-W-71,334; Saint-Gobain Crystals, Photonics, Washougal, WA, June 19, 2008.

TA-W-71,435; Carrier Corporation, A Subsidiary of United Technologies Corp., Carrollton, TX, June 24, 2008.

TA-W-71,473; Meritor Heavy Vehicle Systems, CVS Div./Pinnacle Staffing, Forest City, NC, June 29, 2008.

TA-W-71,568; C. K. Knitting, Inc., Fort Payne, AL.

TA-W-70,318; St. Onge Logging, Inc., Kalispell, MT, May 18, 2008.

TA-W-70,686; T.B.C. Timber, Inc., Libby, MT, May 22, 2008.

TA-W-71,030; Kenco Logistic Services, LLC, Lyndhurst, VA, June 4, 2008.

The following certifications have been issued. The requirements of Section 222(c) (downstream producer for a firm whose workers are certified eligible to apply for TAA) of the Trade Act have been met.

TA-W-70,031; Lance Transport, Inc, Hildebran, NC, May 18, 2008.

The following certifications have been issued. The requirements of Section 222(f) (firms identified by the International Trade Commission) of the Trade Act have been met.

None.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-70,477; Dell USA LP, Americas Business Operations Organization, Round Rock, TX.

TA-W-70,571; Bruce Fox, Inc., A Subsidiary of Fox Group, Fabrication and Welding Division, New Albany, IN.

TA-W-71,034; Farbacher Automotive, Sharpsburg, PA.

The investigation revealed that the criteria under paragraphs (a)(2)(A)(i) (decline in sales or production, or both) and (a)(2)(B) (shift in production or services to a foreign country) of section 222 have not been met.

None.

The investigation revealed that the criteria under paragraphs(a)(2)(A) (increased imports) and (a)(2)(B) (shift in production or services to a foreign country) of section 222 have not been met.

TA-W-70,573; Louisiana Pacific Corporation, Siding Business Unit—Tomahawk Manufacturing Facility, Tomahawk, WI.

TA-W-70,804; Altek, Inc., Liberty Lake, WA.

TA-W-71,108; Air Way Automation, Inc., Grayling, MI.

The investigation revealed that the criteria under paragraphs (b)(2) and (b)(3) (public agency acquisition of services from a foreign country) of section 222 have not been met.

None.

The investigation revealed that criteria of Section 222(c)(2) has not been met. The workers' firm (or subdivision) is not a Supplier to or a Downstream Producer for a firm whose workers were certified as eligible to apply for TAA.

None.

I hereby certify that the aforementioned determinations were issued during the period of July 27 through August 7, 2009. Copies of these determinations are available for inspection in Room N-5428, U.S. Department of Labor, 200 Constitution Avenue, NW., Washington, DC 20210 during normal business hours or will be mailed to persons who write to the above address.

Dated: September 16, 2009.
Elliott S. Kushner,
Certifying Officer, Division of Trade Adjustment Assistance.

[FR Doc. E9-22759 Filed 9-21-09; 8:45 am]

BILLING CODE 4510-FN-P